DEPARTMENT OF COMMERCE

National Oceanic and Atmospheric Administration

50 CFR Part 648

[Docket No. 0907221160-91412-02]

RIN 0648-AY01

Magnuson-Stevens Fishery Conservation and Management Act Provisions; Fisheries of the Northeastern United States; Monkfish Fishery

AGENCY: National Marine Fisheries Service (NMFS), National Oceanic and Atmospheric Administration (NOAA), Commerce.

ACTION: Final rule.

SUMMARY: NMFS issues this final rule to amend the Monkfish Fishery Management Plan (FMP) to allow projects funded through the Monkfish Research Set-Aside (RSA) Program to carryover unused monkfish RSA days-at-sea (DAS) into the following fishing year. This final rule also makes minor technical changes to the monkfish regulations. The changes are purely technical amendments to ensure consistency with the operations of the Monkfish RSA Program and to clarify the intent of the regulations implementing this program.

DATES: This rule is effective April 14, 2010.

ADDRESSES: This document and other supporting material are available online at http://www.regulations.gov or www.nero.nmfs.gov.

FOR FURTHER INFORMATION CONTACT: Anna Macan, Fishery Management Specialist, phone (978) 281-9165, or by e-mail at Anna.Macan@noaa.gov.

SUPPLEMENTARY INFORMATION:

Background

This final rule implements measures to the FMP to allow unused monkfish RSA DAS to carryover into the following fishing year. A proposed rule for this action was published on October 26, 2009 (74 FR 54945), with public comments accepted through November 25, 2009. The details on the development of this action, including the alternatives considered by NMFS, were contained in the preamble of the proposed rule and are not repeated here.

During the development of the Monkfish RSA Program through Amendment 2 to the FMP, NMFS implemented a regulation under its administrative authority, at section 305(d) of the Magnuson-Stevens Fishery Conservation and Management Act (Magnuson-Stevens Act) to prohibit the carryover of unused monkfish RSA DAS (§ 648.92(c)(1)(v)). NMFS took this action due to the status of the stock at the time; at the time Amendment 2 was being implemented, monkfish were considered overfished in both management areas, with little sign of rebuilding. Since the stock is now considered to be rebuilt, the restriction on carrying over RSA DAS is no longer necessary.

This regulatory amendment allows for the rollover of all unused monkfish RSA DAS. Allowing Monkfish RSA DAS to carryover into the following fishing year will provide researchers the flexibility they need to complete projects funded through the Monkfish RSA Program. If carryover DAS are discontinued in the commercial fishery, NMFS will reconsider whether rollover of RSA DAS should be allowed under the Monkfish RSA Program.

Comments and Responses

Two comments were received, both in support of the proposed measure to allow the rollover of all unused RSA DAS, which NMFS is implementing through this final rule.

Comment 1: One commenter supported the action because, in past years, attempts to utilize RSA DAS to conduct key research were constrained by the available number of RSA DAS and issues related to time and revenue recovery. The commenter stated that this action will provide for more flexible implementation of the RSA Program and will hopefully promote interest in industry-sponsored research.

Response: NMFS agrees, and is implementing the measures in this final rule.

Comment 2: The second comment acknowledged general support for this action.

Response: NMFS is implementing the measures in this final rule.

Changes from the Proposed Rule

This final rule makes additional technical amendments to the monkfish research regulatory text at § 648.92(c). The minor changes clarify the intent of the regulations and ensure consistency with the operations of the Monkfish RSA Program.

In § 648.92(c)(1)(i), language stating that NMFS will publish a Request for Proposals (RFP) in the Federal Register at least 3 months prior to the start of the upcoming fishing year has been removed. This will allow NMFS to publish an RFP in accordance with NOAA Grants Office procedures. The text “from industry” at the end of that paragraph has also been removed to clarify that proposals are solicited from an inclusive range of applicants (e.g., research institutions) and are not limited to fishing industry members only.

Section § 648.92(c)(1)(ii) has been revised to reflect that the review panel will include subject matter experts, as opposed to technical experts.

Section § 648.92(c)(1)(ii)(B) has been revised to reflect that NMFS and the NOAA Grants Office will consider each panels recommendations, and that NOAA will provide the final approval of projects, which is the current procedure.

The last sentence in § 648.92(c)(1)(ii)(B) has been removed because this action will allow monkfish RSA DAS to carry into the following fishing year, making this sentence no longer relevant.

Classification

The Administrator for the Northeast Region, NMFS, determined that the FMP amendment is necessary for the conservation and management of the monkfish fishery and that it is consistent with the Magnuson-Stevens Fishery Conservation and Management Act and other applicable laws.

This final rule has been determined to be not significant for purposes of Executive Order 12866.

In accordance with 5 U.S.C. 553(b)(B), the Assistant Administrator finds that advance notice and public comment on the portion of this rule that implements the technical changes to the regulations implementing the Monkfish RSA Program is not necessary. These technical changes are not substantive. They merely revise the regulations to clarify their intent and to be consistent with current procedures of the Monkfish RSA Program, and are consistent with the FMP.

The Chief Counsel for Regulation of the Department of Commerce certified to the Chief Counsel for Advocacy of the Small Business Administration that this final rule, if adopted, will not have a significant economic impact on a substantial number of small entities. The factual basis for this certification appeared in the preamble of the proposed rule. No comments were received regarding the economic impact of this action. As a result, a regulatory flexibility analysis was not required and none was prepared.

List of Subjects in 50 CFR Part 648

Fisheries, Fishing, Reporting and recordkeeping requirements.

Dated: March 9, 2010.
Samuel D. Rauch III,
Deputy Assistant Administrator For Regulatory Programs, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.92, paragraphs (c)(1)(i), (c)(1)(ii), (c)(1)(ii)(B), (c)(1)(iii), and (c)(1)(v) are revised to read as follows:

§ 648.92 Effort-control program for monkfish limited access vessels.

* * * * *

(c) * * *

(1) * * *

(i) NMFS shall publish a Request for Proposals (RFP) in the Federal Register consistent with procedures and requirements established by the NOAA Grants Office to solicit proposals for the upcoming fishing year that are based on research priorities identified by the Councils.

(ii) NMFS shall convene a review panel that may include members of the Councils' Monkfish Oversight Committee, the Council's Research Steering Committee, and other subject matter experts, to review proposals submitted in response to the RFP.

* * * * *

(B) NMFS and the NOAA Grants Office shall consider each panel member's recommendation, and NOAA shall provide final approval of the projects, and notify applicants of the grant award through written notification to the project proponent. The Regional Administrator may exempt selected vessel(s) from regulations specified in each of the respective FMPs through the exempted fishing permit (EFP) process specified under § 600.745(b)(2).

(iii) The grant awards approved under the RFPs shall be for the upcoming fishing year. Proposals to fund research that would start prior to the fishing year are not eligible for consideration. Multi-year grant awards may be approved under an RFP for an upcoming fishing year, so long as the research DAS available under subsequent RFPs are adjusted to account for the approval of multi-year awards.

* * * * *

(v) If the Regional Administrator determines that the annual allocation of research DAS will not be used in its entirety once all of the grant awards have been approved, the Regional Administrator shall reallocate the unallocated research DAS as exempted DAS to be authorized as described in paragraph (c)(2) of this section, and provide notice of the reallocation of DAS in the Federal Register. Any allocated research DAS that are not used during the fishing year for which they are granted may be carried over into the next fishing year. Any unallocated research DAS may not be carried over into the next fishing year.

* * * * *

[FR Doc. 2010-5601 Filed 3-12-10; 8:45 am]

BILLING CODE 3510-22-S